SMALL BUSINESS ADMINISTRATION

[Disaster Declaration #10439]

Oregon Disaster #OR-00012

AGENCY: U.S. Small Business Administration.

ACTION: Notice.

SUMMARY: This is a Notice of the Presidential declaration of a major disaster for Public Assistance Only for the State of Oregon (FEMA-1632-DR), dated 03/20/2006.

Incident: Severe storms, flooding, landslides, and mudslides.

Incident Period: 12/18/2005 through 01/21/2006.

Effective Date: 03/20/2006.

Physical Loan Application Deadline Date: 05/19/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 03/20/2006, applications for Private Non-Profit organizations that provide essential services of a governmental nature may file disaster loan applications at the address listed above or other locally announced locations.

The following areas have been determined to be adversely affected by the disaster:

Primary Counties: Benton, Coos, Gilliam, Lincoln, Tillamook, Clackamas, Crook, Jackson, Linn, Wheeler, Clatsop, Curry, Jefferson, Polk, Columbia, Douglas, Josephine, Sherman

And the Confederated Tribes of the Warm Springs Reservation

The Interest Rates are:

| Percent
Other (including non-profit organizations) with credit available elsewhere | 5.000
Businesses and non-profit organizations without credit available elsewhere | 4.000

The number assigned to this disaster for physical damage is 10439.

(Catalog of Federal Domestic Assistance Number 59008)

Herbert L. Mitchell,
Associate Administrator for Disaster Assistance.

[FR Doc. E6-5060 Filed 4-6-06; 8:45 am]

BILLING CODE 8025-01-P